NUCLEAR REGULATORY COMMISSION

Advisory Committee on Reactor Safeguards (ACRS) Meeting of the Subcommittee on Early Site Permits; Notice of Meeting

The ACRS Subcommittee on Early Site Permits will hold a meeting on October 24, 2007, Room T-2B3, 11545 Rockville Pike, Rockville, Maryland.

The entire meeting will be open to public attendance.

The agenda for the subject meeting shall be as follows:

Wednesday, October 24, 2007—8:30 a.m. until 5 p.m.

The Subcommittee will review and discuss the application submitted by Southern Nuclear Operating Company (Southern Company or SNC—the applicant) for the Vogtle early site permit and the associated NRC staff safety evaluation report (SER) with open items. The Committee must review the application and the final SER to fulfill the requirement of 10 CFR 52.23 that the ACRS report on those portions of an early site permit application that concern safety. The Subcommittee will hear presentations by and hold discussions with representatives of the NRC staff, Southern Nuclear Operating Company, and other interested persons regarding this matter. The Subcommittee will also discuss with the NRC staff the efficiency and effectiveness of staff's implementation of lessons learned from its review activities performed pursuant to 10 CFR part 52. The Subcommittee will gather information, analyze relevant issues and facts, and formulate proposed positions and actions, as appropriate, for deliberation by the full Committee.

Members of the public desiring to provide oral statements and/or written comments should notify the Designated Federal Officer, David C. Fischer (telephone 301/415-6889) 5 days prior to the meeting, if possible, so that appropriate arrangements can be made. Electronic recordings will be permitted. Detailed procedures for the conduct of and participation in ACRS meetings were published in the Federal Register on September 26, 2007 (72 FR 54695).

Further information regarding this meeting can be obtained by contacting the Designated Federal Officer between 7:15 a.m. and 4 p.m. (ET). Persons planning to attend this meeting are urged to contact the above named individual at least two working days prior to the meeting to be advised of any potential changes to the agenda.

Dated: September 26, 2007.
Cayetano Santos,
Chief, Reactor Safety Branch.

[FR Doc. E7-19494 Filed 10-2-07; 8:45 am]

BILLING CODE 7590-01-P